DEPARTMENT OF HOMELAND SECURITY

U.S. Customs and Border Protection

Approval of Laboratory Service Inc. (Savannah, GA) as a Commercial Gauger

AGENCY: U.S. Customs and Border Protection, Department of Homeland Security.

ACTION: Notice of approval of Laboratory Service Inc. (Savannah, GA) as a commercial gauger.

SUMMARY: Notice is hereby given, pursuant to CBP regulations, that Laboratory Service Inc. (Savannah, GA), has been approved to gauge petroleum and certain petroleum products for customs purposes for the next three years as of September 14, 2016.

DATES: Laboratory Service Inc. (Savannah, GA) was approved as a commercial gauger and laboratory as of September 14, 2016. The next triennial inspection date will be scheduled for September 2019.

FOR FURTHER INFORMATION CONTACT: Melanie Glass, Laboratories and Scientific Services, U.S. Customs and Border Protection, 1300 Pennsylvania Avenue NW, Suite 1500N, Washington, DC 20229, tel. 202-344-1060.

SUPPLEMENTARY INFORMATION: Notice is hereby given pursuant to 19 CFR 19 CFR 151.13, that Laboratory Service Inc. 1084 W. Lathrop, Savannah, GA 31415, has been approved to gauge petroleum and certain petroleum products, in accordance with the provisions of 19 CFR 151.13.

Laboratory Service Inc. (Savannah, GA) is approved for the following gauging procedures for petroleum and certain petroleum products from the American Petroleum Institute (API):

API chapters | Title
3 | Tank gauging.
7 | Temperature determination.
17 | Maritime measurement.

Anyone wishing to employ this entity to conduct gauger services should request and receive written assurances from the entity that it is approved by the U.S. Customs and Border Protection to conduct the specific test or gauger service requested. Alternatively, inquiries regarding the specific test or gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: November 13, 2018.
Patricia Hawes Coleman,
Acting Executive Director, Laboratories and Scientific Services.

[FR Doc. 2018-25609 Filed 11-23-18; 8:45 am]

BILLING CODE 9111-14-P